DEPARTMENT OF COMMERCE

National Oceanic and Atmospheric Administration

50 CFR Part 648

[Docket No. 240228-0062; RTID 0648-XE363]

Fisheries of the Northeastern United States; Atlantic Herring Fishery; Adjustment to the 2024 Specifications

AGENCY: National Marine Fisheries Service (NMFS), National Oceanic and Atmospheric Administration (NOAA), Commerce.

ACTION: Temporary rule; inseason adjustment.

SUMMARY: NMFS increases the 2024 Atlantic herring annual catch limit and Area 1A sub-annual catch limit by 1,000 metric tons (mt) for the remainder of 2024. This action is required by the herring regulations when, based on data through October 1, 2024, NMFS determines that the New Brunswick weir fishery has landed less than 2,722 mt of herring. This notification informs the public of these catch limit changes.

DATES: Effective October 8, 2024, through December 31, 2024.

FOR FURTHER INFORMATION CONTACT: Ashley Trudeau, Fishery Resource Management Specialist, 978-281-9252, ashley.trudeau@noaa.gov.

SUPPLEMENTARY INFORMATION: NMFS published final 2024 specifications for the Atlantic Herring Fishery Management Plan on March 4, 2024 (89 FR 15482), establishing the 2024 annual catch limit (ACL) and area sub-ACLs. Table 1 shows the current herring specifications for 2024 and the specifications as revised by this action for the remainder of the calendar year.

The NMFS Regional Administrator tracks herring landings in the New Brunswick weir fishery each year. The regulations at 50 CFR 648.201(h) require that if the New Brunswick weir fishery landings through October 1 are determined to be less than 2,722 mt, then NMFS subtracts 1,000 mt from the management uncertainty buffer and reallocates that amount to the ACL and Area 1A sub-ACL. When such a determination is made, NMFS is required to notify the New England Fishery Management Council and publish the ACL and Area 1A sub-ACL adjustment in the Federal Register.

Information from Canada's Department of Fisheries and Oceans indicates that the New Brunswick weir fishery landed 930 mt of herring through October 1, 2024. Therefore, the Regional Administrator determined that, effective upon notification filing in the Federal Register, 1,000 mt will be reallocated from the management uncertainty buffer to the Area 1A sub-ACL and the ACL. This 1,000 mt reallocation increases the Area 1A sub-ACL from 5,504 mt to 6,504 mt and the ACL from 19,141 mt to 20,141 mt for the remainder of 2024.

Additionally, NMFS will use the adjusted allocations when we project whether catch from Area 1A will reach 92 percent of the Area 1A sub-ACL, or whether overall herring catch will reach 95 percent of the ACL. When Area 1A catch is projected to reach 92 percent of the Area 1A sub-ACL, catch from this area is reduced to 2,000 lb (907.2 kg) per trip, per calendar day. When overall catch is projected to reach 95 percent of the ACL, then catch in or from all herring management areas is limited to 2,000 lb (907.2 kg) per trip, per calendar day.

Table 1—Atlantic Herring Specifications for 2024
| Current specifications (mt) | Adjusted specifications (mt)
Overfishing Limit | 32,233 | 32,233
Acceptable Biological Catch | 23,409 | 23,409
Management Uncertainty | 4,220 | 3,220
Optimum Yield/ACL | 19,141 | 20,141
Domestic Annual Harvest | 19,141 | 20,141
Border Transfer | 0 | 0
Domestic Annual Processing | 19,141 | 20,141
U.S. At-Sea Processing | 0 | 0
Area 1A Sub-ACL (28.9 percent) | 5,504 | 6,504
Area 1B Sub-ACL (4.3 percent) | 819 | 819
Area 2 Sub-ACL (27.8 percent) | 5,449 | 5,449
Area 3 Sub-ACL (39 percent) | 7,484 | 7,484
Fixed Gear Set-Aside | 30 | 30
Research Set-Aside (RSA) | 0% | 0%

Classification

NMFS issues this action pursuant to section 305(d) of the Magnuson-Stevens Act. This action is required by 50 CFR part 648, which was issued pursuant to section 304(b), and is exempt from review under Executive Order 12866.

The Assistant Administrator for Fisheries, NOAA, finds good cause under 5 U.S.C. 553(b)(B) to waive prior notice and the opportunity for public comment on this inseason adjustment because it would be unnecessary and contrary to the public interest. This action allocates a portion of the management uncertainty buffer to the ACL and Area 1A sub-ACL for the remainder of the calendar year pursuant to a previously published regulation that provides no discretionary decision-making. This reallocation process was the subject of prior notice and comment rulemaking. The adjustment is routine and formulaic, required by regulation, and is expected by industry. The potential to reallocate the management uncertainty buffer was also outlined in the 2024 herring specifications that were published March 23, 2023 (88 FR 17397), which were developed through public notice and comment. Further, this reallocation provides additional economic opportunity for the herring fleet. If implementation of this action is delayed to solicit public comment, the objective of the fishery management plan to achieve optimum yield in the fishery could be compromised. Deteriorating weather conditions during the latter part of the fishing year may reduce fishing effort, and could also prevent the ACL from being fully harvested. This would result in a negative economic impact on vessels permitted to fish in this fishery. Based on these considerations, NMFS further finds, pursuant to 5 U.S.C. 553(d)(3), good cause to waive the 30-day delayed effectiveness period for the reasons stated above.

(Authority: 16 U.S.C. 1801 et seq.)

Dated: October 3, 2024.
Karen H. Abrams,
Acting Director, Office of Sustainable Fisheries, National Marine Fisheries Service.

[FR Doc. 2024-23318 Filed 10-8-24; 8:45 am]

BILLING CODE 3510-22-P